FEDERAL COMMUNICATIONS COMMISSION

47 CFR Part 73

DA 22-128; FRS 71904]

Radio Broadcasting Services; Various Locations

AGENCY: Federal Communications Commission.

ACTION: Final rule.

SUMMARY: This document amends the FM Table of Allotments, of the Federal Communications Commission's (Commission) rules, by designating as unreserved the FM allotment channels that are reserved for noncommercial educational (“NCE”) use in various communities. The FM allotments are vacant as a result of the dismissal of an application or cancellation of the authorization or license. We classify as unreserved these NCE channels that are in the commercial band (Channels 221 to 300) by operation of law. These FM allotment channels have previously undergone notice and comment rulemaking. This action constitutes an editorial change in the FM Table of Allotments. Therefore, we find for good cause that further notice and comment are unnecessary.

DATES: Effective February 17, 2022.

FOR FURTHER INFORMATION CONTACT: Rolanda F. Smith, Media Bureau, (202) 418-2700.

SUPPLEMENTARY INFORMATION: This is a synopsis of the Commission's Order, adopted February 9, 2022 and released February 9, 2022. The full text of this Commission decision is available online at https://apps.fcc.gov/ecfs/. This document does not contain information collection requirements subject to the Paperwork Reduction Act of 1995, Public Law 104-13. The Commission will not send a copy of the Order in a report to be sent to Congress and the Government Accountability Office pursuant to the Congressional Review Act, see 5 U.S.C. 801(a)(1)(A) because the Order is a ministerial action.

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202, amend table 1 to paragraph (b) by:

a. Revise the entry for “Pima” under Arizona;

b. Revise the entry for “Olathe” under Colorado;

c. Revise the entry for “Otter Creek” under Florida;

d. Add the entry “Weiser” under Idaho;

e. Revise the entries for “Cedarville,” “Greenup,” and “Pinckneyville” under Illinois;

f. Add the entry “Columbus” in alphabetical order and revise the entries for “Fowler” and “Madison” under Indiana;

g. Under Iowa:

i. Revise the entries for “Asbury” and “Keosauqua”;

ii. Add the entry “Moville” in alphabetical order; and

iii. Revise the entry for “Rudd”;

h. Revise the entry for “Council Grove” under Kansas;

i. Revise the entry for “Golden Meadow” under Louisiana;

j. Revise the entry for “West Tisbury” under Massachusetts;

k. Revise the entry for “Cordell” and add the entry for “Weatherford” in alphabetical order under Oklahoma;

l. Revise the entry for “Liberty” under Pennsylvania;

m. Add the entry for “Denver City” in alphabetical order and revise the entry for “Van Alstyne” under Texas;

n. Revise the entry for “Oak Harbor” under Washington;

o. Revise the entries for “Ashland” and “Hayward” under Wisconsin;

p. Revise the entry for “Jackson” under Wyoming; and

q. Revise the second entry for “Charlotte Amalie” under U.S. Territories, Virgin Islands.

The revisions and additions read as follows:

§ 73.202 Table of Allotments.

* * * * *

(b) * * *

Table 1 to Paragraph (b)
U.S. States | Channel No.
* * * * *
ARIZONA
* * * * *
Pima | 296A
* * * * *
COLORADO
* * * * *
Olathe | 270C2, 293C
* * * * *
FLORIDA
* * * * *
Otter Creek | 240A
* * * * *
IDAHO
Weiser | 247C1
ILLINOIS
* * * * *
Cedarville | 258A
Greenup | 230A
Pinckneyville | 282A
INDIANA
Columbus | 228A
Fowler | 291A
Madison | 265A
IOWA
Asbury | 254A
* * * * *
Keosauqua | 271C3
Moville | 246A
* * * * *
Rudd | 268A
KANSAS
Council Grove | 281C3
* * * * *
LOUISIANA
* * * * *
Golden Meadow | 289C2
* * * * *
MASSACHUSETTS
* * * * *
West Tisbury | 282A
* * * * *
OKLAHOMA
* * * * *
Cordell | 229A
* * * * *
Weatherford | 286A
* * * * *
PENNSYLVANIA
Liberty | 298A
* * * * *
TEXAS
* * * * *
Denver City | 248C2
* * * * *
Van Alstyne | 260A
* * * * *
WASHINGTON
* * * * *
Oak Harbor | 233A
* * * * *
WISCONSIN
Ashland | 275A
* * * * *
Hayward | 232C2
* * * * *
WYOMING
* * * * *
Jackson | 294C2
* * * * *
U.S. Territories
* * * * *
VIRGIN ISLANDS
* * * * *
Charlotte Amalie | 275A

[FR Doc. 2022-03468 Filed 2-16-22; 8:45 am]

BILLING CODE 6712-01-P